DEPARTMENT OF ENERGY

Western Area Power Administration

Salt Lake City Area Integrated Projects and Colorado River Storage Project 2025 General Power Marketing Criteria—Extension of Public Comment Period

AGENCY: Western Area Power Administration, Department of Energy (DOE).

ACTION: Notice of extension of public comment period for the Proposed 2025 Marketing Plan for the Salt Lake City Area Integrated Projects (SLCA/IP).

SUMMARY: Western Area Power Administration (Western), Colorado River Storage Project Management Center (CRSP MC), a Federal power marketing agency of the Department of Energy, is extending the public comment period on its Proposed 2025 Marketing Plan for the SLCA/IP. This Federal Register notice (FRN) extends the public comment period for the Proposed 2025 Marketing Plan for the SLCA/IP contained in Western's December 16, 2015, FRN.

DATES: The public comment period for the Proposed 2025 Marketing Plan for the SLCA/IP has been extended from March 30, 2016, to May 31, 2016.

ADDRESSES: Submit written comments regarding the Proposed 2025 Marketing Plan for the SLCA/IP to Ms. Lynn Jeka, CRSP Manager, Western Area Power Administration, 150 East Social Hall Avenue, Suite 300, Salt Lake City, UT 84111-1580. Comments may also be faxed to (801) 524-5017, or emailed to SLIPPost2024@wapa.gov.

FOR FURTHER INFORMATION CONTACT: Mr. Parker Wicks, Public Utilities Specialist, or Mr. Steve Mullen, Public Utilities Specialist, at Western Area Power Administration, CRSP Management Center, 150 East Social Hall Avenue, Suite 300, Salt Lake City, UT 84111-1580, telephone (801) 524-5493, or email to SLIPPost2024@wapa.gov. Information can also be found at https://www.wapa.gov/regions/CRSP/PowerMarketing/Pages/Proposed-2025-Salt-Lake-City-Area-Integrated-Projects-Marketing-Plan.aspx.

SUPPLEMENTARY INFORMATION: On December 16, 2015, Western published a notice in the Federal Register (80 FR 78222) announcing its Proposed 2025 Marketing Plan for the SLCA/IP. In that notice, the public comment period was reported to close March 30, 2016. After clarifying questions were received during its Public Information Meeting held January 14, 2016, in Salt Lake City, Utah, Western has decided to extend the public comment period from the previously published public comment period closing of March 30, 2016, to May 31, 2016. This additional time will allow Western to post the results of its preliminary determination of the 2025 SLCA/IP Marketable Resource, which are expected to be posted for review on or before May 3, 2016, at https://www.wapa.gov/regions/CRSP/PowerMarketing/Pages/Proposed-2025-Salt-Lake-City-Area-Integrated-Projects-Marketing-Plan.aspx. This extension will also provide interested parties an additional opportunity to consult with Western and to comment on the Proposed 2025 Marketing Plan for the SLCA/IP.

Dated: March 21, 2016.
Mark A. Gabriel,
Administrator.

[FR Doc. 2016-06917 Filed 3-25-16; 8:45 am]

BILLING CODE 6450-01-P